NATIONAL SCIENCE FOUNDATION

Business and Operations Advisory Committee; Notice of Meeting

In accordance with the Federal Advisory Committee Act (Pub. L. 92-463, as amended), the National Science Foundation (NSF) announces the following meeting:

NAME AND COMMITTEE CODE: Business and Operations Advisory Committee (#9556).

DATE AND TIME: December 12, 2022; 8:30 a.m.-5:00 p.m. (Eastern).

PLACE: NSF, 2415 Eisenhower Avenue, Alexandria, VA 22314 (Virtual). To attend the virtual meeting, please send your request for the meeting link to the following email address: negglest@nsf.gov.

TYPE OF MEETING: Open.

CONTACT PERSON: NaChanza Eggleston, National Science Foundation, 2415 Eisenhower Avenue, Alexandria, VA 22314; Telephone: (703) 292-8100.

PURPOSE OF MEETING: To provide advice concerning issues related to the oversight, integrity, development and enhancement of NSF's business operations.

AGENDA

• Welcome/Introductions/Previous Recommendations

• Updates: Annual Conflicts of Interest; BFA; OIRM; Budget/OLPA

• Knowledge Management at NSF

• Hybrid Workforce Evaluation

• Subcommittee on NSF's Information Technology and Enterprise Architecture Strategy

• Meeting with Karen Marrongelle and Teresa Grancorvitz

Dated: November 10, 2022.
Crystal Robinson,
Committee Management Officer.

[FR Doc. 2022-24907 Filed 11-15-22; 8:45 am]

BILLING CODE 7555-01-P